DEPARTMENT OF EDUCATION

Notice of Submission for OMB Review

AGENCY: Department of Education.

ACTION: Comment Request.

SUMMARY: The Director, Information Collection Clearance Division, Privacy, Information and Records Management Services, Office of Management, invites comments on the submission for OMB review as required by the Paperwork Reduction Act of 1995 (Pub. L. 104-13).

DATES: Interested persons are invited to submit comments on or before December 22, 2011.

ADDRESSES: Written comments should be addressed to the Office of Information and Regulatory Affairs, Attention: Education Desk Officer, Office of Management and Budget, 725 17th Street, NW., Room 10222, New Executive Office Building, Washington, DC 20503, be faxed to (202) 395-5806 or emailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: November 16, 2011.
Darrin King,
Director, Information Collection Clearance Division, Privacy, Information and Records Management Services, Office of Management.

Office of Postsecondary Education

Type of Review: New.

Title of Collection: Transition and Postsecondary Programs for Students with Intellectual Disabilities Evaluation System.

OMB Control Number: Pending.

Agency Form Number(s): N/A.

Frequency of Responses: Annually.

Affected Public: Not-for-Profit Institutions.

Total Estimated Number of Annual Responses: 56.

Total Estimated Annual Burden Hours: 1087.

Abstract: On October 2010, the Office of Postsecondary Education (OPE) awarded 27 Institutes of Higher Education (IHE) grants to fund the creation of Transition Programs for Students with Intellectual Disabilities (TPSIDs) (model demonstrations) in 23 states.

OPE also awarded a grant to the Institute for Community Inclusion at the University of Massachusetts Boston to fund a coordinating center to support these TPSID grantees as well as other programs around the country that are working to transition students with cognitive disabilities into higher education. One of the Coordinating Center's roles is to develop an evaluation system for the TPSID programs. The proposed data collection system is part of that evaluation effort and involves establishment of a uniform dataset across the initial 27 sites (and potentially up to 31 additional IHEs) to ensure consistency in collection of information comprised by the previously listed 11 Government Performance and Results Act measures. The system will collect program data at the institution and individual level from TPSID program staff via an online, secure, data management system.

Copies of the information collection submission for OMB review may be accessed from the RegInfo.gov Web site at http://www.reginfo.gov/public/do/PRAMain or from the Department's Web site at http://edicsweb.ed.gov, by selecting the “Browse Pending Collections” link and by clicking on link number 4706. When you access the information collection, click on “Download Attachments “to view. Written requests for information should be addressed to U.S. Department of Education, 400 Maryland Avenue SW., LBJ, Washington, DC 20202-4537. Requests may also be electronically mailed to the Internet address ICDocketMgr@ed.gov or faxed to (202) 401-0920. Please specify the complete title of the information collection and OMB Control Number when making your request.

Individuals who use a telecommunications device for the deaf (TDD) may call the Federal Information Relay Service (FIRS) at 1-800-877-8339.

[FR Doc. 2011-30134 Filed 11-21-11; 8:45 am]

BILLING CODE 4000-01-P